DEPARTMENT OF ENERGY

Federal Energy Regulatory Commission

Combined Notice of Filings #1

July 31, 2008.

Take notice that the Commission received the following electric corporate filings:

Docket Numbers: EC08-67-000.

Applicants: LS Power Development, LLC, Luminus Management, LLC.

Description: Supplemental Information for the 203 Application of LS Power Development, LLC and Luminus Management, LLC.

Filed Date: 07/30/2008.

Accession Number: 20080730-5031.

Comment Date: 5 p.m. Eastern Time on Monday, August 11, 2008.

Docket Numbers: EC08-87-000.

Applicants: Entegra Power Group LLC, Gila River Power, L.P., Union Power Partners, L.P., Harbinger Capital Partners Master Fund I, Harbinger Capital Partners Special Situa.

Description: Harbinger Capital Partners Master Fund I, Ltd., et al. Schedule 13G Filing.

Filed Date: 07/29/2008.

Accession Number: 20080729-5022.

Comment Date: 5 p.m. Eastern Time on Tuesday, August 19, 2008.

Take notice that the Commission received the following exempt wholesale generator filings:

Docket Numbers: EG08-83-000.

Applicants: Project Orange Associates, LLC.

Description: Self Certification Notice of Exempt Wholesale Generator Status of Project Orange Associates, LLC.

Filed Date: 07/29/2008.

Accession Number: 20080729-5003.

Comment Date: 5 p.m. Eastern Time on Tuesday, August 19, 2008.

Docket Numbers: EG08-84-000.

Applicants: Smoky Hills Wind Project II, LLC.

Description: Self Certification Notice of EWG.

Filed Date: 07/30/2008.

Accession Number: 20080730-5051.

Comment Date: 5 p.m. Eastern Time on Wednesday, August 20, 2008.

Take notice that the Commission received the following electric rate filings:

Docket Numbers: ER97-851-018.

Applicants: Hydro-Quebec Energy Services (U.S.) Inc.

Description: HQ Energy Services, Inc submits Third Revised Sheet 1 et al. to FERC Electric Rate Schedule 1.

Filed Date: 07/29/2008.

Accession Number: 20080731-0056.

Comment Date: 5 p.m. Eastern Time on Tuesday, August 19, 2008.

Docket Numbers: ER99-2541-010; ER01-1764-007; ER04-582-008; ER05-731-004; ER97-3553-006; ER97-3556-018; ER99-220-015; ER99-221-013.

Applicants: Carthage Energy, LLC; PEI Power II LLC; Hartford Steam Company; Central Maine Power Company; Rochester Gas & Electric Corporation; Energetix, Inc.; NYSEG SOLUTIONS INC; New York State Electric & Gas Corp.

Description: The Energy East submits First Revised Sheet 1 et al. to FERC Electric Tariff, Third Revised Volume 1, to be effective 7/31/08.

Filed Date: 07/30/2008.

Accession Number: 20080731-0219.

Comment Date: 5 p.m. Eastern Time on Wednesday, August 20, 2008.

Docket Numbers: ER00-3614-009; ER01-1300-008; ER08-337-003; ER06-1351-003.

Applicants: BP Energy Company; Whiting Clean Energy, Inc.; Watson Cogeneration Company; BP West Coast Products LLC.

Description: BP Public Utilities notifies FERC of non-material change in status with respect to their market-based rate wholesale power sales authority.

Filed Date: 07/29/2008.

Accession Number: 20080731-0060.

Comment Date: 5 p.m. Eastern Time on Tuesday, August 19, 2008.

Docket Numbers: ER01-1403-008; ER06-1443-004; ER04-366-006; ER01-2968-009; ER01-845-007; ER05-1122-005; ER08-107-002.

Applicants: FirstEnergy Operating Companies; Pennsylvania Power Company; Jersey Central Power & Light Co.; FirstEnergy Solutions Corp.; FirstEnergy Generation Corporation; FirstEnergy Nuclear Generation Corporation; FirstEnergy Generation Mansfield Unit 1.

Description: The FirstEnergy Companies submits a notice of non-material change in status.

Filed Date: 07/25/2008.

Accession Number: 20080729-0129.

Comment Date: 5 p.m. Eastern Time on Friday, August 15, 2008.

Docket Numbers: ER01-2830-003.

Applicants: Roseburg Forest Products Company.

Description: Roseburg Forest Products submits an Amendment to their Application as a Category 1 Seller pursuant to Order 697.

Filed Date: 07/28/2008.

Accession Number: 20080728-4003.

Comment Date: 5 p.m. Eastern Time on Monday, August 18, 2008.

Docket Numbers: ER03-774-010.

Applicants: Eagle Energy Partners I, LP.

Description: Eagle Energy Partners I, LP submits Notice of Non-Material Change in Status.

Filed Date: 07/29/2008.

Accession Number: 20080731-0062.

Comment Date: 5 p.m. Eastern Time on Tuesday, August 19, 2008.

Docket Numbers: ER04-925-019.

Applicants: Merrill Lynch Commodities, Inc.

Description: Submission of Letters of Concurrence in Support of Petition of Merrill Lynch Commodities, Inc Requesting Classification as a Category 1 Seller Pursuant to Order 697.

Filed Date: 07/29/2008.

Accession Number: 20080729-5031.

Comment Date: 5 p.m. Eastern Time on Tuesday, August 19, 2008.

Docket Numbers: ER04-1244-001.

Applicants: NorthPoint Energy Solutions Inc.

Description: NorthPoint Energy Services submits a list of its transmission and generation assets in the form provided in Appendix B of Order 697.

Filed Date: 07/29/2008.

Accession Number: 20080730-0182.

Comment Date: 5 p.m. Eastern Time on Thursday, August 07, 2008.

Docket Numbers: ER05-658-002.

Applicants: Harvard Dedicated Energy Limited.

Description: Order No. 697 Compliance Filing—Category 1 Qualification Application Amendment of Harvard Dedicated Energy Limited.

Filed Date: 07/30/2008.

Accession Number: 20080730-5104.

Comment Date: 5 p.m. Eastern Time on Wednesday, August 20, 2008.

Docket Numbers: ER07-501-013; ER07-758-009; ER08-649-007; ER02-537-017.

Applicants: Birchwood Power Partners, L.P., EFS Parlin Holdings, LLC, Inland Empire Energy Center, L.L.C.; Shady Hills Power Company, L.L.C.

Description: GE Companies submits first revised Volume 1 to their respective tariffs and on 7/29/08 submit a correction to this filing.

Filed Date: 07/28/2008; 07/29/2008.

Accession Number: 20080730-0037; 20080730-0031.

Comment Date: 5 p.m. Eastern Time on Monday, August 18, 2008.

Docket Numbers: ER08-656-003.

Applicants: Shell Energy North America (U.S.), L.P.

Description: Shell Energy North America (U.S.), LP submits its Second Revised Rate Schedule FERC 1 to restore the standard Midwest Indep. Transmission System Operator Inc ancillary service provision under ER08-656.

Filed Date: 07/28/2008.

Accession Number: 20080730-0036.

Comment Date: 5 p.m. Eastern Time on Monday, August 18, 2008.

Docket Numbers: ER08-671-002.

Applicants: Florida Power Corporation.

Description: Florida Power Corp submits its compliance filing re a service agreement with the City of Gainesville, Florida under ER08-671.

Filed Date: 07/28/2008.

Accession Number: 20080730-0116.

Comment Date: 5 p.m. Eastern Time on Monday, August 18, 2008.

Docket Numbers: ER08-679-002.

Applicants: Tallgrass Energy Partners.

Description: Tallgrass Energy Partners, LLC submits a substitute original Petition for Acceptance of Initial Rate Schedule, Waivers and Blanket Authority.

Filed Date: 07/29/2008.

Accession Number: 20080730-0114.

Comment Date: 5 p.m. Eastern Time on Tuesday, August 19, 2008.

Docket Numbers: ER08-720-003.

Applicants: Consolidated Edison Co. of New York, Inc.

Description: Refund report filed in compliance with the June 30, 2008 order from the Director, Division of Tariffs and Markets Development—East of Consolidated Edison Company of New York, Inc.

Filed Date: 07/30/2008.

Accession Number: 20080730-5128.

Comment Date: 5 p.m. Eastern Time on Wednesday, August 20, 2008.

Docket Numbers: ER08-896-001.

Applicants: Northeast Utilities Service Company.

Description: Northeast Utilities Service Company submits their compliance filing with FERC's June 30, 2008 Order.

Filed Date: 07/30/2008.

Accession Number: 20080731-0214.

Comment Date: 5 p.m. Eastern Time on Wednesday, August 20, 2008.

Docket Numbers: ER08-1010-001.

Applicants: Commonwealth Edison Company.

Description: Commonwealth Edison Company et al submits incorporate charges applicable to wholesale distribution service provided to the City of Genevam Illinois which are approved by the 7/10/08 Order etc. under ER08-1010.

Filed Date: 07/28/2008.

Accession Number: 20080730-0035.

Comment Date: 5 p.m. Eastern Time on Monday, August 18, 2008.

Docket Numbers: ER08-1043-001.

Applicants: Midwest Independent Transmission System.

Description: Midwest Independent Transmission System Operator, Inc submits amendments to the 5/30/09 filing of revisions to its Open Access Transmission, Energy and Operating Reserve Markets Tariff under ER08-1043.

Filed Date: 07/29/2008.

Accession Number: 20080731-0059.

Comment Date: 5 p.m. Eastern Time on Tuesday, August 19, 2008.

Docket Numbers: ER08-1063-001.

Applicants: Southern Company Services, Inc.

Description: Southern Companies submits Substitute Second Revised Service Agreement 473 in compliance with FERC's 7/18/08 letter order.

Filed Date: 07/25/2008.

Accession Number: 20080729-0131.

Comment Date: 5 p.m. Eastern Time on Friday, August 15, 2008.

Docket Numbers: ER08-1126-001; ER08-1127-001; ER08-1128-001; ER08-1129-001; ER08-1130-001; ER08-1131-001; ER08-1132-001; ER08-1133-001; ER08-1134-001; ER08-1135-001; ER08-1136-001; ER08-1137-001; ER08-1138-001; ER08-1139-001.

Applicants: Georgia-Pacific Brewton LLC; GP Big Island, LLC; Brunswick Cellulose, Inc.; Georgia-Pacific Cedar Springs LLC; Georgia-Pacific Consumer Operations LLC; Georgia-Pacific Con Prod LP Green Bay W; Georgia-Pacific Consumer Products LP Mus; Georgia-Pacific Cons Prods LP Naheola; Georgia-Pacific Cons Prods LP Savannah; Georgia-Pacific LLC Crosset; Georgia-Pacific Monticello LLC; Georgia-Pacific Toledo LLC; Leaf River Cellulose, LLC.

Description: Georgia-Pacific Brewton LLC et al. submits First Substitute Original Sheet 1 et al. to under ER08-1134 et al.

Filed Date: 07/28/2008.

Accession Number: 20080730-0032.

Comment Date: 5 p.m. Eastern Time on Monday, August 18, 2008.

Docket Numbers: ER08-1250-001.

Applicants: Haverhill North Coke Company.

Description: Haverhill North Coke Company submits a revised market-based rate tariff that clarifies that there are no limitations on its sales at market-based rates as a result of its QF status under ER08-1250.

Filed Date: 07/28/2008.

Accession Number: 20080730-0033.

Comment Date: 5 p.m. Eastern Time on Thursday, August 07, 2008.

Docket Numbers: ER08-1299-000.

Applicants: Merck & Company, Inc.

Description: Merck & Co, Inc submits a request for authorization to sell energy and capacity at market-based rates etc.

Filed Date: 07/25/2008.

Accession Number: 20080729-0130.

Comment Date: 5 p.m. Eastern Time on Friday, August 15, 2008.

Docket Numbers: ER08-1300-000.

Applicants: Story Wind, LLC.

Description: Story Wind, LLC submits a request for authorization to sell energy and capacity market-based rates.

Filed Date: 07/25/2008.

Accession Number: 20080725-4007.

Comment Date: 5 p.m. Eastern Time on Friday, August 15, 2008.

Docket Numbers: ER08-1308-000.

Applicants: Southwest Power Pool Inc.

Description: Southwest Power Pool Inc submits an executed Service Agreement for Network Transmission Service etc.

Filed Date: 07/25/2008.

Accession Number: 20080729-0001.

Comment Date: 5 p.m. Eastern Time on Friday, August 15, 2008.

Docket Numbers: ER08-1309-000.

Applicants: Midwest Independent Transmission System Operator, Inc.

Description: Midwest Independent Transmission System Operator, Inc et al. submits proposed revisions to Schedule, Long-Term and Short-Term Firm Point-to-Point Transmission Services etc.

Filed Date: 07/25/2008.

Accession Number: 20080729-0132.

Comment Date: 5 p.m. Eastern Time on Friday, August 15, 2008.

Docket Numbers: ER08-1310-000.

Applicants: American Electric Power Service Corporat.

Description: The American Electric Power Service Corp submits a Limited Notice to Proceed for a Construction Agreement with Trans-Allegheny Interstate Line Co under ER08-1310.

Filed Date: 07/28/2008.

Accession Number: 20080730-0117.

Comment Date: 5 p.m. Eastern Time on Monday, August 18, 2008.

Docket Numbers: ER08-1311-000.

Applicants: SUMAS COGENERATION CO LP.

Description: Sumas Cogeneration, LP submits a Notice of Cancellation to terminate its market-base rate tariff.

Filed Date: 07/28/2008.

Accession Number: 20080730-0118.

Comment Date: 5 p.m. Eastern Time on Monday, August 18, 2008.

Docket Numbers: ER08-1312-000.

Applicants: ISO New England Inc. and New England Power.

Description: ISO New England Inc et al. submits amendments to the Financial Assurance Policies.

Filed Date: 07/28/2008.

Accession Number: 20080730-0129.

Comment Date: 5 p.m. Eastern Time on Monday, August 18, 2008.

Docket Numbers: ER08-1313-000.

Applicants: ISO New England Inc. and New England Pow.

Description: ISO New England et al. submits revised tariff sheets re the extension of the demand response reserves pilot program under ER08-1313.

Filed Date: 07/28/2008.

Accession Number: 20080730-0119.

Comment Date: 5 p.m. Eastern Time on Monday, August 18, 2008.

Docket Numbers: ER08-1314-000.

Applicants: Wheelabrator Frackville Energy Company I.

Description: Petition of Wheelabrator Frackville Energy Co for acceptance of Market-Based Rate Tariff and granting waivers and blanket approvals under ER08-1314.

Filed Date: 07/28/2008.

Accession Number: 20080730-0120.

Comment Date: 5 p.m. Eastern Time on Monday, August 18, 2008.

Docket Numbers: ER08-1315-000.

Applicants: Florida Power & Light Company.

Description: Florida Power & Light Company submits a new Rate Schedule 311, Macedonia Interconnection Agreement Between Florida Power & Light Company and Georgia Transmission Corporation under ER08-1315.

Filed Date: 07/28/2008.

Accession Number: 20080730-0121.

Comment Date: 5 p.m. Eastern Time on Monday, August 18, 2008.

Docket Numbers: ER08-1316-000.

Applicants: Avista Corporation.

Description: Avista Corp et al. submits revised tariff sheets to existing non-conforming long-term service agreements.

Filed Date: 07/29/2008.

Accession Number: 20080730-0115.

Comment Date: 5 p.m. Eastern Time on Tuesday, August 19, 2008.

Docket Numbers: ER08-1319-000.

Applicants: PacifiCorp.

Description: PacifiCorp submits their Engineering and Procurement Agreement.

Filed Date: 07/29/2008.

Accession Number: 20080731-0055.

Comment Date: 5 p.m. Eastern Time on Tuesday, August 19, 2008.

Docket Numbers: ER08-1320-000.

Applicants: Southern California Edison Company.

Description: Southern California Edison Company submits a letter agreement between SCE and City of Victorville.

Filed Date: 07/29/2008.

Accession Number: 20080731-0054.

Comment Date: 5 p.m. Eastern Time on Tuesday, August 19, 2008.

Docket Numbers: ER08-1322-000.

Applicants: Whiting Clean Energy, Inc.

Description: Whiting Clean Energy, Inc submits a Notice of Cancellation of the FERC Electric Tariff, First Revise Volume 1, Rate Schedule No 2.

Filed Date: 07/29/2008.

Accession Number: 20080731-0057.

Comment Date: 5 p.m. Eastern Time on Tuesday, August 19, 2008.

Docket Numbers: ER08-1324-000.

Applicants: Southwest Power Pool, Inc.

Description: Southwest Power Pool Inc submits an executed Service Agreement for Network Integration Transmission Service with Kansas Power Pool etc.

Filed Date: 07/30/2008.

Accession Number: 20080731-0212.

Comment Date: 5 p.m. Eastern Time on Wednesday, August 20, 2008.

Docket Numbers: ER08-1325-000.

Applicants: Southwest Power Pool, Inc.

Description: Southwest Power Pool Inc submits an executed Service agreement for Network Integration Transmission Service with Associated Electric Cooperative Inc.

Filed Date: 07/30/2008.

Accession Number: 20080731-0213.

Comment Date: 5 p.m. Eastern Time on Wednesday, August 20, 2008.

Take notice that the Commission received the following open access transmission tariff filings:

Docket Numbers: OA08-15-001.

Applicants: Oklahoma Gas and Electric Company.

Description: Oklahoma Gas and Electric Company Order No. 890 Compliance Filing under Docket No. OA08-15.

Filed Date: 07/28/2008.

Accession Number: 20080728-5111.

Comment Date: 5 p.m. Eastern Time on Monday, August 18, 2008.

Take notice that the Commission received the following public utility holding company filings:

Docket Numbers: PH08-24-001; PH08-25-001.

Applicants: Horizon Asset Management, Inc.

Description: Horizon Asset Management, Inc submits a Notice of Amendment to FERC 65 and FERC 65A filings and a Certificate of Service.

Filed Date: 07/25/2008.

Accession Number: 20080730-0038.

Comment Date: 5 p.m. Eastern Time on Friday, August 15, 2008.

Docket Numbers: PH08-33-000.

Applicants: Equitable Resources Inc.

Description: Notification of Exemption.

Filed Date: 07/30/2008.

Accession Number: 20080730-5126.

Comment Date: 5 p.m. Eastern Time on Wednesday, August 20, 2008.

Any person desiring to intervene or to protest in any of the above proceedings must file in accordance with Rules 211 and 214 of the Commission's Rules of Practice and Procedure (18 CFR 385.211 and 385.214) on or before 5 p.m. Eastern Time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E8-18423 Filed 8-8-08; 8:45 am]

BILLING CODE 6717-01-P